DEPARTMENT OF ENERGY

Federal Energy Regulatory Commission

Combined Notice of Filings #1

August 31, 2005.

Take notice that the Commission received the following electric rate filings:

Docket Numbers: ER96-719-007.

Applicants: MidAmerican Energy Company.

Description: MidAmerican Energy Company submits Second Substitute Sheet No. 5 to FERC Gas Tariff, Original Volume No. 9, amending its compliance filing submitted on 7/1/05 in Docket No. ER96-719-005.

Filed Date: 08/24/2005.

Accession Number: 20050826-0187.

Comment Date: 5 p.m. Eastern Time on Wednesday, September 14, 2005.

Docket Numbers: ER01-642-003.

Applicants: Cottonwood Energy Company LP.

Description: Cottonwood Energy Company, LP submits a notice of change in status and a revised market-based rate tariff and a revised market-based rate tariff.

Filed Date: 08/24/2005.

Accession Number: 20050826-0188.

Comment Date: 5 p.m. Eastern Time on Wednesday, September 14, 2005.

Docket Numbers: ER04-810-001.

Applicants: TransAlta Centralia Generating L.L.C.

Description: TransAlta Centralia Generation, L.L.C. submitted a compliance filing to inform the Commission that the Parties to the settlement agreement approved by the Commission in the order issued 4/19/05, 111 FERC ¶ 61,087 (2005), have recalculated and agreed to a revised service factor beginning 10/1/05 in accordance with the computation set forth in TransAlta's Rate Schedule FERC No. 1.

Filed Date: 08/26/2005.

Accession Number: 20050829-0208.

Comment Date: 5 p.m. Eastern Time on Friday, September 16, 2005.

Docket Numbers: ER05-1395-000.

Applicants: Covanta Delaware Valley, L.P.

Description: Covanta Delaware Valley, L.P. submits a notice of succession notifying the Commission that, as the result of name change, it adopts American Ref-Fuel Company of Delaware Valley, L.P.'s Supplement No. 3 to FERC Electric Rate Schedule Original Volume No. 1 and FERC Electric Tariff Original Volume No. 3 and submits amendments to the rate schedules and tariffs to reflect the name change.

Filed Date: 08/26/2005.

Accession Number: 20050829-0207.

Comment Date: 5 p.m. Eastern Time on Friday, September 16, 2005.

Docket Numbers: ER05-1396-000.

Applicants: Covanta Essex Company.

Description: Covanta Essex Company submits a notice of succession notifying the Commission that, as a result of a name change, it adopts American Ref-Fuel Company of Essex County's Supplement No. 3 to Rate Schedule FERC No. 1 and FERC Electric Tariff, Original Volume No. 2 and submits amendments to the rate schedules and tariffs to reflect the name change.

Filed Date: 08/26/2005.

Accession Number: 20050829-0206.

Comment Date: 5 p.m. Eastern Time on Friday, September 16, 2005.

Docket Numbers: ER05-1397-000.

Applicants: Covanta Hempstead Company.

Description: Covanta Hempstead Company submits a notice of succession to notifying the Commission that as the result of a name change, it adopts American Ref-Fuel Company of Hempstead's FERC Electric Tariff, Original Volume No. 1 as its own and submits amendments to the rate schedule to reflect the name change.

Filed Date: 08/26/2005.

Accession Number: 20050829-0205.

Comment Date: 5 p.m. Eastern Time on Friday, September 16, 2005.

Docket Numbers: ER05-1398-000.

Applicants: Covanta Niagara, L.P.

Description: Covanta Niagara, L.P. submits a notice of succession notifying the Commission that as a result of a name change, it adopts American Ref-Fuel Company of Niagara, L.P.'s FERC Electric Tariff, Original Volume No. 1 as its own and submits amendments to the Rate Schedule to reflect the name change.

Filed Date: 08/26/2005.

Accession Number: 20050829-0204.

Comment Date: 5 p.m. Eastern Time on Friday, September 16, 2005.

Docket Numbers: ER05-1399-000.

Applicants: Mississippi Power Company.

Description: Mississippi Power Company submits a request for authorization to use its updated depreciation rates in the calculation of charges for services provided pursuant to certain jurisdictional contracts that are affected by this filing.

Filed Date: 08/29/2005.

Accession Number: 20050829-0203.

Comment Date: 5 p.m. Eastern Time on Monday, September 19, 2005.

Docket Numbers: ER05-1402-000.

Applicants: PJM Interconnection, L.L.C.

Description: PJM Interconnection, L.L.C. submitted an executed interconnection service agreement with Mill Run Windpower, LLC, and West Penn Power Company d/b/a as Allegheny Power.

Filed Date: 08/29/2005.

Accession Number: 20050831-0004.

Comment Date: 5 p.m. Eastern Time on Monday, September 19, 2005.

Docket Numbers: ER05-1403-000.

Applicants: PJM Interconnection, L.L.C.

Description: PJM Interconnection, L.L.C. submits an executed interconnection service agreement with Backbone Mountain Windpower, LLC and Monongahela Power Company d/b/a Allegheny Power.

Filed Date: 08/29/2005.

Accession Number: 20050831-0005.

Comment Date: 5 p.m. Eastern Time on Monday, September 19, 2005.

Docket Numbers: ER05-1404-000.

Applicants: California Independent System Operator Corporation.

Description: California Independent System Operator Corporation submits a notice regarding the revised transmission access charges to implement the revised transmission revenue requirement of the City of Anaheim, CA effective 7/1/05 .

Filed Date: 08/29/2005.

Accession Number: 20050831-0006.

Comment Date: 5 p.m. Eastern Time on Monday, September 19, 2005.

Docket Numbers: ER05-1405-000.

Applicants: Sulfur Springs Valley Electric Cooperative.

Description: Sulphur Springs Valley Electric Cooperative submits notification that it is an electric cooperative affected by the amendment to section 201(f) of the Federal Power Act and is not longer a public utility and withdraws its jurisdictional rate schedules.

Filed Date: 08/29/2005.

Accession Number: 20050831-0007.

Comment Date: 5 p.m. Eastern Time on Monday, September 19, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-4870 Filed 9-7-05; 8:45 am]

BILLING CODE 6717-01-P